DEPARTMENT OF THE INTERIOR

Bureau of Reclamation

Closure Order Establishing Prohibitions at Ridges Basin, La Plata County, CO

AGENCY: Bureau of Reclamation, Interior.

ACTION: Notice of closure.

SUMMARY: The Bureau of Reclamation is prohibiting public access and activities on Reclamation land in Ridges Basin, La Plata County, Colorado.

DATES: The closure is effective June 30, 2003, and will remain in effect indefinitely.

ADDRESSES: A map is available for inspection at the Bureau of Reclamation's Western Colorado Area Office located at 835 East Second Avenue, Durango, Colorado. The map may be viewed between 8 a.m. and 4 p.m. Monday through Friday, except on Federal holidays.

FOR FURTHER INFORMATION CONTACT: Bill Walsh, Bureau of Reclamation, Western Colorado Area Office, (970) 385-6554, or Doug Hendrix, Bureau of Reclamation, Office of Public Affairs, (801) 524-3837.

SUPPLEMENTARY INFORMATION: This action is being taken under 43 CFR 423.3 to improve facility security and public safety. Reclamation will be prohibiting all public access on Reclamation lands in and around Ridges Basin during construction of the Animas-La Plata Project. This is being done to protect the public from construction activities and to protect the construction workforce from public activities such as discharging weapons. The following acts are prohibited within the Ridges Basin closure area:

(a) Trespassing, entering, or remaining in or upon property or real property not open to the public (closed areas). Exceptions: Construction contractor personnel that have authorization from Reclamation, law enforcement and fire department personnel and Reclamation employees acting within the scope of their employment, and any others who have received expressed written authorization from Reclamation to enter the closure area.

(b) Vandalizing, destroying, manipulating, injuring, contaminating, defacing, depositing, abandoning, dumping, damaging, taking, or occupying property and real property of the United States, or other property, not under one's lawful control and possession.

This order is posted in accordance with 43 CFR 423.3(b). Violation of this prohibition or any prohibition listed in 43 CFR 423 is punishable by fine, or imprisonment for not more than 6 months, or both.

Dated: June 23, 2003.
Carol DeAngelis,
Area Manager, Western Colorado Area Office, Bureau of Reclamation—Upper Colorado Region.

[FR Doc. 03-16843 Filed 7-2-03; 8:45 am]

BILLING CODE 4310-MN-P